ENVIRONMENTAL PROTECTION AGENCY

[FRL-8337-4; EPA-HQ-OARM-2007-0166]

Amendment of System Records Notice for the PeoplePlus

AGENCY: Environmental Protection Agency (EPA).

ACTION: Notice of an Amendment of an existing System of Records Notice for the PeoplePlus.

SUMMARY: Pursuant to the provisions of the Privacy Act of 1974 (5 U.S.C. 552a), the Office of Administration and Resources Management (OARM) is giving notice that it proposes to AMEND AN EXISTING SYSTEM OF RECORDS for EPA-1 PeoplePlus. The Environmental Protection Agency (EPA or Agency) is amending a Privacy Act system of records to reflect the agency's collection of employee data determined to be privacy and or personally identifiable information (PII). In previous amendments the Human Capital Management (HCM) function of PeoplePlus was always the underlying source of employee information when providing Benefits, Payroll, and Time and Labor processing. The data collected includes, but is not limited to, contents of employee information in the Official Personnel Folder (OPF) as specified in the Office of Personnel Management (OPM) Operating Manual, “The Guide to Personnel Recordkeeping,” but never to this level of detail. Further, the system's name is changing from “PeoplePlus Payroll, Time and Labor Application” to “PeoplePlus” because the name included functions of PeoplePlus which changed recently with the e-Payrolls initiative. This notice does not affect any Privacy Act rights already accorded individuals who are subject of Agency personnel and payroll records. PeoplePlus will not change the nature of the records currently kept by EPA. This action simply gives notice of the additional HCM, and employee information collected, and to notify the public of the routine uses for PeoplePlus. These records are maintained in PeoplePlus to administer EPA's pay and leave requirements, including processing, accounting, and reporting requirements. They also provide the basic source of factual data about a person's Federal employment while in the service and after his or her separation. Records in PeoplePlus have various uses by Agency personnel offices, including screening qualifications of employees; determining status, eligibility, and employee's rights and benefits under pertinent laws and regulations governing Federal employment; computing length of service; and other information needed to provide personnel services. These records and their automated or microform equivalents may also be used to locate individuals for personnel research.

DATES: Persons wishing to comment on this system of records notice may do so by August 20, 2007.

ADDRESSES: Submit your comments, identified by Docket ID No. EPA-HQ-OARM-2007-0166, by one of the following methods:

• http://www.regulations.gov: Follow the online instructions for submitting comments.

• E-mail: oei.docket@epa.gov.

• Fax: 202-566-1752.

• Mail: OEI Docket, Environmental Protection Agency, Mailcode: 2822T, 1200 Pennsylvania Ave., NW., Washington, DC 20460.

• Hand Delivery: OEI Docket, EPA/DC, EPA West Building, Room B102, 1301 Constitution Ave., NW., Washington, DC. Such deliveries are only accepted during the Docket's normal hours of operation, and special arrangements should be made for deliveries of boxed information.

Instructions: Direct your comments to Docket ID No. EPA-HQ-OARM-2007-0166. EPA's policy is that all comments received will be included in the public docket without change and may be made available online at http://www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, EPA West Building, Room B102, 1301 Constitution Ave., NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Bobby Moore, Office of Human Resources, Office of Administration and Resources Management, U.S. Environmental Protection Agency, 1200 Pennsylvania Ave., NW., M/C 3603M, Washington, DC 20460, telephone (202) 564-7542.

SUPPLEMENTARY INFORMATION:

I. General Information

The EPA-1 PeoplePlus (PPL) system of records does not duplicate any existing system of records. Details regarding the amended system of records are contained in this Federal Register Notice. PeoplePlus is EPA's integrated Human Resources, Benefits, and Time and Labor Management System. PPL is an enterprise application that provides multiple functionalities for human resources and base benefits as well as on-line entry for time and labor data. The Human Capital Management (HCM) function of PeoplePlus was designed to support personnel operations, feed payroll systems, time and labor and meet managers', human resources (HR) specialists', and employees' needs for information necessary to manage day-to-day operations. These records are not a substitute for the official, permanent documentation that constitutes the Official Personnel Folder (OPF). The data collected includes, but is not limited to, contents of employee information in the OPF as specified in the Office of Personnel Management (OPM) Operating Manual, “The Guide to Personnel Recordkeeping.” Much of the Standard Form 52 “Request for Personnel Action” and Standard Form 50 “Notification of Personnel Action”, information is collected to meet Government-wide human resource information needs. Civilian personnel records are records that relate to the supervision over and management of Federal civilian employees. These include records on the general administration and operation of human resource management programs and functions as well as records that concern individual employees. This information is reported to the Central Personnel Data File (CPDF), OPM's centralized, automated information system that provides statistics on Executive Branch employment to the Congress and other agencies. This information is used in a variety of ways to evaluate and formulate human resource systems and programs. Privacy in PeoplePlus is protected by restricting access to authorized users with appropriate roles and permissions. Privacy data is access and managed by the Human Resources Specialist with these secured roles. PeoplePlus is access by EPA employees for time entry and those who provide functional duties within the system. Employees access PeoplePlus using a secure Web site within the Agency's firewall. Employees must use their unique Network ID and secure Password to gain access. PeoplePlus is managed and maintained by both the Office of Administration and Resources Management (OARM) and the Office of the Chief Financial Officer (OCFO). EPA's Central Client Server System (CCSS) is the general support system which services and supports the PeoplePlus major application. CCSS is located at Research Triangle Park, N.C. within the National Computer Center (NCC), in the Office of Environmental Information (OEI).

Dated: June 4, 2007.
Molly A. O'Neill,
Assistant Administrator and Chief Information Officer.

EPA-1

System Name:

PeoplePlus.

System Location:

National Computer Center, Environmental Protection Agency, Research Triangle Park, North Carolina 27711.

Categories of Individuals Covered by the System:

Current and former EPA employees, including Health and Human Services Public Health Service Commissioned Officers assigned to EPA.

Categories of Records Covered by the System:

This system contains general human resources elements, basic benefits pay and leave records. This includes, but is not limited to, employee identification and employment status data such as: Name(s), records that establish an individual's identity, social security number, date of birth, sex, race and national origin, disability, home and mailing addresses, home telephone numbers and telephone numbers for emergency contacts, type of appointment, education, training courses attended, veteran preference, military service, service computation for leave, date of probationary and trial period began, date of and the annual performance rating, date of and amount of individual cash, time off, rating based, and suggestion, patents and invention awards, date of and amount of group cash, time off, and suggestion, patents, and inventions awards, grievances and adverse actions for performance based reductions in grade and removal actions, and terminations of probationers, date of within-grade increases, Intergovernmental Personnel Act records, union bus codes, employing organization codes, salary, pay plan, grade, step, adjudication of a position classification and appeal, retained grade or pay appeal, or Fair Labor Standards Act (FLSA) claim complaints, forms and reports completed during employment as a condition of employment, records and pertaining and resulting from the testing of the employee for use of illegal drugs, reports of on-the-job injuries and medical records, forms, and reports generated as a result of the filing of a Workers' Compensation, number of hours worked, overtime, compensatory time, leave accrual rate, leave usage and balances, Thrift Saving Plans (TSP), TSP loans, Civil Service Retirement and Federal Employees Retirement System contributions, Federal Insurance Contributions Act (FICA) withholdings, Federal, State, and city tax withholdings, Federal Employee Group Life Insurance withholdings, Federal Long-Term Care Insurance, Federal Employee Health Benefits withholdings, charitable deductions, allotments to financial organizations, garnishments, savings bonds allotments, union dues withholdings, deductions for Internal Revenue Service levies, court ordered child support levies, Federal salary offset deductions, and information on the Leave Transfer Program and the Leave Bank Program, Flexible Spending Accounts (FSA), child care subsidy, time compliance technical orders (TCTO), Physicians Comparability Allowances (PCA), uniform allowances, non-foreign cost-of-living allowances, Within Grade Increase, Quality Step Increase, student loan repayment program, recruitment, relocation, and retention incentives, extended assignment incentives, supervisory differentials, post differentials, night pay differential, Sunday premium pay, law enforcement availability pay, administratively uncontrollable overtime pay, regularly scheduled standby duty pay, evacuation payment, hazardous duty.

Authority for Maintenance of the System:

5 U.S.C. 5101 et seq.; 5 U.S.C. 5501 et seq.; 5 U.S.C. 5525 et seq.; 5 U.S.C. 5701 et seq.; 5 U.S.C. 6301 et seq.; 31 U.S.C. 3512; Executive Order 9397 (Nov. 22, 1943); 5 U.S.C. 6362; 5 U.S.C. 6311.

Purpose(s):

These records are maintained in PeoplePlus to administer EPA's pay and leave requirements, including processing, accounting and reporting requirements. They also provide the basic source of factual data about a person's Federal employment while in the service and after his or her separation. Records in PeoplePlus have various uses by Agency personnel offices, including screening qualifications of employees; determining status, eligibility, and employee's rights and benefits under pertinent laws and regulations governing Federal employment; computing length of service; and other information needed to provide personnel services. These records and their automated equivalents may also be used to locate individuals for personnel research.

Routine Uses of Records Maintained in the System, Including Categories of Users, and the Purposes of Such Uses:

A. To the Department of the Treasury to issue checks, make payments, make electronic funds transfers, and issue U.S. Savings Bonds.

B. To the Department of Agriculture National Finance Center to credit Thrift Savings Plan deductions and loan payments to employee accounts.

C. To the Department of Labor in connection with a claim filed by an employee for compensation due to a job connected injury or illness.

D. To the Internal Revenue Service; Social Security Administration; and State and local tax authorities in connection with the withholding of employment taxes and tax levies.

E. To the State Unemployment Offices in connection with a claim filed by former employees for unemployment benefits.

F. To the officials of labor organizations as to the identity of employees contributing union dues each pay period and the amount of dues withheld from each employee.

G. To the Office of Personnel Management and to Health Benefit carriers in connection with enrollment and payroll deductions.

H. To the Office of Personnel Management in connection with employee retirement and life insurance deductions.

I. To the Combined Federal Campaign in connection with payroll deductions for charitable contributions.

J. To the Office of Management and Budget and Department of the Treasury to provide required reports on financial management responsibilities.

K. To provide information as necessary to other Federal, State, local or foreign agencies conducting computer matching programs to help eliminate fraud and abuse and to detect unauthorized overpayments made to individuals. When disclosures are made as part of computer matching programs, EPA will comply with the Computer Matching and Privacy Protection Act of 1988.

L. To the Social Security Administration and the Department of Health and Human Services to provide information on newly hired employees for child support enforcement purposes.

M. To the Department of Health and Human Services in connection with the master personnel and payroll files for their Public Health Service Officers.

N. To the Defense Finance and Accounting Service to provide payroll processing services.

O. To the Federal Retirement Benefit Contractors to enable employees to receive retirement benefit calculations.

P. To disclose information to Government training facilities (Federal, State, and local) in review of OPM's Go Learn eGov initiative as part of EHRI.

Q. To disclose information to Office of Civil Rights (OCR) for Equal Employment Opportunity Commission (EEOC) when requested in connection with investigations of alleged or possible discrimination practices in the Federal Sector, and in response to its request for use in the conduct of an examination of an agency's compliance with affirmative action plan instructions and the Uniform Guidelines on Employee Selection Procedures (1978).

EPA's General Routine Uses:

A, B, C, D, E, F, G, H, I, J, and K apply to this system.

Policies and Practices For Storing, Retrieving, Accessing, Retaining, and Disposing of Records in the System:

Storage:

These records are maintained in hard copy formats and computer processable storage media such as computer tapes and disks. The computer storage devices are located in the National Computer Center, Research Triangle Park, North Carolina. Backup tapes are maintained at a disaster recovery site. Data is on CD and fiche—only after it rolls off line in DCPS for use within the PROs to do research. There are actual history tapes kept in the storage facility for the 56 years.

• Retrievability: These records are retrieved by the employee identification number or name.

• Safeguards: Computer records are maintained in a secure password protected environment. Access to computer records is limited to those who have a need to know. Permission level assignments allow users access only to those functions for which they are authorized. Paper records are maintained in locked metal file cabinets. All records are maintained in secure, access-controlled areas or buildings.

• Retention and Disposal: The retention of data in the system is in accordance with applicable EPA Records Schedules #161 and 553 as approved by the National Archives and Records Administration. Employee records are retained on magnetic tapes for an indefinite period. Hard copy records are maintained for varying periods of time, at which time they are disposed of by shredding.

System Manager(s) and Address:

Director, Office of Human Resources, Office of Administration and Resources Management, U.S. Environmental Protection Agency, 1200 Pennsylvania Avenue, NW., (MC 3601ARN), Washington, DC 20460 and Director, Office of Financial Services, Office of the Chief Financial Officer, U.S. Environmental Protection Agency, 1200 Pennsylvania Avenue, NW., (MC 2734R), Washington, DC 20460.

Notification Procedures:

Individuals who want to know whether this system of records contains information about them or who want to access, amend or correct their records, should make a written request to the EPA Privacy Act Officer, Freedom of Information Office, U.S. Environmental Protection Agency, 1200 Pennsylvania Ave., NW., (MC 2822T), Washington, DC 20460 or by facsimile to (202) 566-2149. Individuals must furnish the following information for their records to be located and identified:

A. Full name.

B. A statement that the request relates to the PeoplePlus system of records.

C. A statement indicating the reason for the request (i.e., access, amendment or correction) and whether a personal inspection of the records or a copy of them by mail is desired.

D. Signature.

These requirements and related provisions are set forth in EPA's Privacy Act regulations, 40 CFR Part 16, as amended (2006), which are available on the Agency's Privacy Act Web site at http://www.epa.gov/privacy/laws/index.htm.

Record Access Procedure:

Individuals wishing to request access to their records should follow the Notification Procedures. Individuals requesting access are also required to provide adequate identification, such as a driver's license, employee identification card, social security card, credit card or other identifying document. Additional identification procedures may be required in some instances.

Contesting Record Procedure:

Individuals requesting correction or amendment of their records should follow the Notification Procedures and the Record Access Procedures and also identify the record or information to be changed, giving specific reasons for the change. Complete EPA Privacy Act procedures are set out in 40 CFR part 16, as amended (2006).

Record Source Categories:

Information in this system of records is provided by:

A. The individual on whom the record is maintained.

B. Agency officials such as managers and supervisors.

C. Consumer reporting agencies, debt collection agencies, Department of the Treasury, and other Federal agencies.

D. Federal Retirement Benefit contractors.

E. Leave Bank.

System Exempted from Certain Provisions of the Act:

None.

[FR Doc. E7-13205 Filed 7-6-07; 8:45 am]

BILLING CODE 6560-50-P